ENVIRONMENTAL PROTECTION AGENCY

[ER-FRL-6685-4]

Environmental Impacts Statements; Notice of Availability

Responsible Agency: Office of Federal Activities, General Information (202) 564-7167 or http://www.epa.gov/compliance/nepa/.

Weekly receipt of Environmental Impact Statements

Filed 03/19/2007 through 03/23/2007

Pursuant to 40 CFR 1506.9.

EIS No. 20070108, Final EIS, AFS, AK, Scratchings Timber Sale Project, Timber Harvest up to Approximately 42 Million Board Feet, Suemez Island, Craig Ranger District, Tongass National Forest, AK, Wait Period Ends: 04/30/2007, Contact: Dennis Sylvia 907-826-3271.

EIS No. 20070109, Draft EIS, NGB, MS,Camp Shelby Joint Force Training Center, Implementation of Installation Mission Support Activities, Renewal of Special Use Permit, DeSoto National Forest, in portions of Forrest, George and Perry Counties, MS, Comment Period Ends: 05/14/2007, Contact: Alisa Dickson 703-607-9620.

EIS No. 20070110, Final EIS, FHW, MN, Trunk Highway 23 Improvements Project, From 0.25 Miles West of CSAH 6 in Kandiyohi County to 0.3 Miles Southwest of CSAH 123 Stearns County, City of Paynesville, Kandiyohi and Stearns Counties, MN, Wait Period Ends: 04/30/2007, Contact: Cheryl Martin 651-291-6120.

EIS No. 20070111, Draft EIS, HUD, WA, Westpark Redevelopment Master Plan, Redevelop of 82-acre Site to create a Mixed-Use, Mixed-Income Pedestrian Oriented Urban Community, Funding and U.S. Army COE Section 10 Permit, City of Bremerton, Kitsap County, WA, Comment Period Ends: 05/14/2007, Contact: Andrea Spencer 360-473-5283.

EIS No. 20070112, Draft Supplement, SFW, CA, Coachella Valley, Revision to the Multiple Species Habitat Conservation Plan (MSHCP), Natural Community Conservation Plan, Santa Rosa and San Jacinto Mountains Trails Plan, Issuance of Incidental Take Permit, Riverside County, CA, Comment Period Ends: 05/29/2007, Contact: Therese O'Rourke 760-431-9440.

EIS No. 20070113, Draft Supplement, TVA, TN,Watts Bar Nuclear Plant Unit 2, Completion and Operation, Updated Information on Extensive Environmental Record, Rhea County, TN, Comment Period Ends: 05/14/2007, Contact: Ruth M. Horton 865-632-3719.

EIS No. 20070114, Draft EIS, USA, NM, Cannon Air Force Base (AFB), Proposal to Beddown, or Locate Air Force Special Operations Command (AFSOC), Implementation, Base Realignment and Closure (BRAC), NM, Comment Period Ends: 05/14/2007, Contact: Carl Hoffman 850-884-5984.

EIS No. 20070115, Draft EIS, FAA, FL,Fort Lauderdale-Hollywood International Airport, Proposed Development and Extension of Runway 9R/27L and other Associated Airport Projects, Funding, U.S. Army COE Section 404 Permit and NPDES Permit, Fort Lauderdale, Broward County, FL, Comment Period Ends: 05/14/2007, Contact: Virginia Lane 407-812-6331

Ext. 129.

EIS No. 20070116, Draft EIS, AFS, 00, Norwood Project, Proposes to Implement Multiple Resource Management Actions, Black Hills National Forest , Hell Canyon Ranger District, Pennington County, SD and Weston and Crook Counties, WY, Comment Period Ends: 05/14/2007, Contact: Michael Lloyd 605-673-4853.

EIS No. 20070117, Final EIS, AFS, PA, Allegheny National Forest, Proposed Revised Land and Resource Management Plan, Preferred Alternative is Cm, Implementation, Elk, Forest, McKean and Warren Counties, PA, Wait Period Ends: 04/30/2007, Contact: William Connelly 814-723-5150.

EIS No. 20070118, Final EIS, IBR, CA, Folsom Dam Safety and Flood Damage Reduction Project, Addressing Hydrologic, Seismic, Static, and Flood Management Issues, Sacramento, El Dorado and Placer Counties, CA, Wait Period Ends: 04/30/2007, Contact: Shawn Oliver 916-989-7256.

EIS No. 20070119, Draft EIS, NOA, AK, Programmatic—Outer Continental Shelf Seismic Surveys in the Beaufort and Chukchi Seas, Proposed Offshore Oil and Gas Seismic Survey, AK, Comment Period Ends: 05/14/2007, Contact: William T. Hogarth 301-713-1632.

EIS No. 20070120, Draft EIS, FRC, SC, Santee Cooper Hydroelectric Project (FERC. No. 199), Relicensing for Existing 130-megawatt (MW), Santee and Cooper Rivers, Berkeley, Calhoun, Clarendon, Orangeburg and Sumter Counties, SC, Comment Period Ends: 05/29/2007, Contact: Monte J. TerHaar 202-502-6035.

EIS No. 20070121, Draft EIS, FHW, UT, Hyde Park/North Logan Corridor Project, Proposed 200 East Transportation Corridor between North Logan City and Hyde Park, Funding, Right-of-Way Acquisitions and U.S. Army COE Section 404 Permit, Cache County, UT, Comment Period Ends: 05/25/2007, Contact: Edward T. Woolford 801-963-0078 Ext 235.

EIS No. 20070122, Draft EIS, BLM, 00, Overland Pass Natural Gas Liquids Pipeline Project (OPP), Construction and Operation of 760 Mile Natural Gas Liquids Pipeline, Right-of-Way Grant, KS, WY and CO, Comment Period Ends: 05/14/2007, Contact: Tom Hurshman 970-240-5345

EIS No. 20070123, Draft EIS, IBR, CA,North Sonoma County Agricultural Reuse Project, Construct and Operate a Recycled Water to Agricultural Lands, Sonona County, CA, Comment Period Ends: 05/29/2007, Contact: Douglas Kleinsmith 916-978-5034.

EIS No. 20070124, Draft EIS, FHW, NY, NY-112 Reconstruction Project, From I-495 to NY-25 Improve Safety and Mobility, Town of Brookhaven, Suffolk County, NY, Comment Period Ends: 05/19/2007, Contact: Robert Arnold 518-431-4127.

EIS No. 20070125, Final EIS, NPS, AZ, Walnut Canyon National Monument, General Management Plan, Implementation, Flagstaff Area, Coconina County, AZ, Wait Period Ends: 04/30/2007, Contact: Sam Henderson 520-526-1157 Ext 227.

Dated: March 27, 2007.
Robert W. Hargrove,
Director, NEPA Compliance Division, Office of Federal Activities.

[FR Doc. E7-5903 Filed 3-29-07; 8:45 am]

BILLING CODE 6560-50-P